DEPARTMENT OF ENERGY

Federal Energy Regulatory Commission

[Docket No. EC01-93-000]

Edison Mission Energy on Behalf of Its Public Utility Subsidiaries; Notice of Filing

April 30, 2001.

Take notice that on April 30, 2001, Edison Mission Energy (EME), on behalf of its public utility subsidiaries, tendered for filing an Application pursuant to Section 203 of the Federal Power Act for approval of a transaction whereby EME's stock will be transferred to a new company which will be a subsidiary of The Mission Group. The purpose of the proposed transaction is to permit Edison International (EIX) to obtain the financing needed to meet its near-term obligations. The transaction proposed in this Application is intended to permit the unregulated subsidiaries to obtain funds needed to assist the parent. The filing relates to the possible bankruptcy of SCE and/or EIX. Applicants further request that the Commission issue an order approving this Application by no later than May 14, 2001.

Edison Mission Energy served a copy of the Application on the California Public Utilities Commission and on California Governor Gray Davis.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before May 10, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-11252 Filed 5-3-01; 8:45 am]

BILLING CODE 6717-01-M